DEPARTMENT OF THE INTERIOR

National Park Service

Cape Cod National Seashore, South Wellfleet, MA; Cape Cod National Seashore Advisory Commission; Notice of the Two Hundred Forty-Sixth Meeting

Notice is hereby given in accordance with the Federal Advisory Committee Act (Pub. L. 92-463, 86 Stat. 770, 5 U.S.C. App 1, section 10), that a meeting of the Cape Cod National Seashore Advisory Commission will be held on March 15, 2004.

The Commission was reestablished pursuant to Pub. L. 87-126 as amended by Public L. 105-280. The purpose of the Commission is to consult with the Secretary of the Interior, or his designee, with respect to matters relating to the development of Cape Cod National Seashore, and with respect to carrying out the provisions of sections 4 and 5 of the Act establishing the Seashore.

The Commission members will meet at 1 p.m. at Headquarters, Marconi Station, Wellfleet, Massachusetts for the regular business meeting to discuss the following:

1. Adoption of agenda

2. Approval of minutes of previous meeting (January 26, 2004)

3. Reports of officers

4. Reports of subcommittees

5. Superintendent's report

Salt Pond Visitor Center update

Transportation

Highlands Center

Eastham Town Beach

East Harbor salinity report

Commonwealth appointments

News from Washington

6. Old business

7. New business

Commercial Certificates of Suspension of Condemnation

8. Date and agenda for next meeting

Invasive Species Field Trip

9. Public comment, and

10. Adjournment

The meeting is open to the public. It is expected that 15 persons will be able to attend the meeting in addition to Commission members.

Interested persons may make oral/written presentations to the Commission during the business meeting or file written statements. Such requests should be made to the park superintendent at least seven days prior to the meeting. Further information concerning the meeting may be obtained from the Superintendent, Cape Cod National Seashore, 99 Marconi Site Road, Wellfleet, MA 02667.

Dated: January 28, 2004.
Maria Burks,
Superintendent.

[FR Doc. 04-3141 Filed 2-12-04; 8:45 am]

BILLING CODE 4310-10-P